INTERNATIONAL TRADE COMMISSION

[Investigation No. 337-TA-753]

In the Matter of Certain Semiconductor Chips and Products Containing Same; Notice of Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 15) issued by the presiding administrative law judge's (“ALJ”) granting a motion filed by complainant Rambus, Inc. (“Rambus”) and respondent Motorola Solutions, Inc. (formerly known as Motorola, Inc.), to amend the complaint and notice of investigation.

FOR FURTHER INFORMATION CONTACT: Wayne Herrington, Office of the General Counsel, U.S. International Trade Commission, 500 E Street, SW., Washington, DC 20436, telephone (202) 205-3090. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 4, 2011, based on a complaint filed by Rambus, Inc. (“Rambus”) of Sunnyvale, California. The complaint alleges violations of section 337 of the Tariff Act of 1930, as amended, 19 U.S.C. 1337, in the importation into the United States, the sale for importation, and the sale within the United States after importation of certain semiconductor chips and products containing the same. The Commission's notice of investigation named numerous respondents. The presiding administrative law judge (“ALJ”) (Judge Essex) issued the subject ID on February 15, 2011, granting a joint motion filed by Rambus and Motorola Solutions, Inc. (formerly known as Motorola, Inc.), to substitute Motorola Mobility, Inc. for Motorola, Inc. No party filed a petition for review of the ID. The Commission has determined not to review the subject ID. The authority for the Commission's determination is contained in section 337 of the Tariff Act of 1930, as amended (19 U.S.C. 1337), and in Part 210 of the Commission's Rules of Practice and Procedure (19 CFR part 210).

By order of the Commission.
Issued: March 14, 2011.
William R. Bishop,
Hearings and Meetings Coordinator.

[FR Doc. 2011-6209 Filed 3-16-11; 8:45 am]

BILLING CODE 7020-02-P